DEPARTMENT OF THE INTERIOR

Bureau of Reclamation

Central Valley Project Improvement Act Water Management Plans

AGENCY: Bureau of Reclamation, Interior.

ACTION: Notice of availability.

SUMMARY: The Standard Criteria for Agricultural and Urban Water Management Plans (Criteria) are now available for public comment. To meet the requirements of the Central Valley Project Improvement Act of 1992 and the Reclamation Reform Act of 1982, the Bureau of Reclamation developed and published the Criteria. The Criteria apply to any Water Management Plans submitted to the Bureau of Reclamation as required by applicable Central Valley Project water service contracts, settlement contracts, or any contracts that specifically invokes the Criteria. Note: For the purpose of this announcement, Water Management Plans are considered the same as Water Conservation Plans (Plans).

DATES: All public comments must be received by December 8, 2014.

ADDRESSES: Please mail comments to Ms. Angela Anderson, Bureau of Reclamation, 2800 Cottage Way, MP-410, Sacramento, California 95825; or contact at 916-978-5215, or email at aanderson@usbr.gov.

FOR FURTHER INFORMATION CONTACT: To be placed on a mailing list for any subsequent information, please contact Ms. Angela Anderson at the email address or telephone number above.

SUPPLEMENTARY INFORMATION: Section 3405(e) of the Central Valley Project Improvement Act (CVPIA) (Title 34 Pub. L.102-575), requires the Secretary of the Interior to establish and administer an office on Central Valley Project (CVP) water conservation best management practices that shall “ . . . develop criteria for evaluating the adequacy of all water conservation plans developed by project contractors, including those plans required by section 210 of the Reclamation Reform Act of 1982.” Also, according to Section 3405(e)(1), these criteria must be developed “ . . . with the purpose of promoting the highest level of water use efficiency reasonably achievable by project contractors using best available cost-effective technology and best management practices.” These criteria state that all parties (Contractors) that contract with the Bureau of Reclamation (Reclamation) for water supplies (municipal and industrial contracts over 2,000 acre-feet and agricultural contracts over 2,000 irrigable acres) must prepare Plans that contain the following information:

1. Description of the District.

2. Inventory of Water Resources.

3. Best Management Practices for Agricultural Contractors.

4. Best Management Practices for Urban Contractors.

5. Plan Implementation.

6. Exemption Process.

7. Five-Year Revisions.

Reclamation will evaluate Plans based on these criteria. The CVPIA requires Reclamation to evaluate and revise, if necessary, the Criteria every 3 years. The Criteria were last updated in 2011 and the proposed 2014 update is currently under review. Public meetings to solicit comments on revisions of the Criteria were held in September 2014. Comments will be incorporated into the finalized document. A copy can be found at the following Web site: http://www.usbr.gov/mp/watershare/documents/2014_Standard_Criteria.pdf.

A copy can also be obtained by contacting the person at the address above.

Public Disclosure

Before including your address, phone number, email address, or other personal identifying information in your comment, you should be aware that your entire comment—including your personal identifying information—may be made publicly available at any time. While you can ask us in your comment to withhold your personal identifying information from public review, we cannot guarantee that we will be able to do so.

Richard J. Woodley,
Regional Resources Manager, Mid-Pacific Region, Bureau of Reclamation.

[FR Doc. 2014-26333 Filed 11-5-14; 8:45 am]

BILLING CODE 4332-90-P